DEPARTMENT OF HEALTH AND HUMAN SERVICES

National Institutes of Health

Center for Scientific Review; Amended Notice of Meeting

Notice is hereby given of a change in the meeting of the Center for Scientific Review Special Emphasis Panel, March 27, 2002, 2 p.m. to March 27, 2002, 3 p.m., NIH, Rockledge 2, Bethesda, MD 20892 which was published in the Federal Register on March 18, 2002, 67 FR 12034-12036.

The meeting will be held April 1, 2002, from 4 p.m. to 5 p.m. The location remains the same. The meeting is closed to the public.

Dated: March 20, 2002.
LaVerne Y. Stringfield,
Director, Office of Federal Advisory Committee Policy.

[FR Doc. 02-7265 Filed 3-26-02; 8:45 am]

BILLING CODE 4140-01-M